DEPARTMENT OF COMMERCE

Submission for OMB Review; Comment Request; Voluntary Self-Disclosure of Antiboycott Violations

The Department of Commerce will submit to the Office of Management and Budget (OMB) for clearance the following proposal for collection of information under the provisions of the Paperwork Reduction Act (44 U.S.C. Chapter 35).

Agency: Bureau of Industry and Security.

Title: Voluntary Self-Disclosure of Antiboycott Violations.

Form Number(s): N/A.

OMB Control Number: 0694-0132.

Type of Review: Regular submission.

Estimated Total Annual Burden Hours: 7,230.

Estimated Number of Respondents: 15.

Estimated Time per Response: 10 to 600 hours.

Needs and Uses: This collection of information supports enforcement of the Antiboycott provisions of the Export Administration Regulations (EAR) by providing a method for industry to voluntarily self-disclose Antiboycott violations.

Affected Public: Business or other for-profit organizations.

Frequency: On Occasion.

Respondent's Obligation: Voluntary.

This information collection request may be viewed at reginfo.gov http://www.reginfo.gov/public/. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-00798 Filed 1-13-17; 8:45 am]

BILLING CODE 3510-33-P